DEPARTMENT OF TRANSPORTATION

Federal Aviation Administration

14 CFR Part 71

[Docket No. FAA-2017-1033; Airspace Docket No. 17-ANM-19]

RIN 2120-AA66

Amendment of Class D and Class E Airspace; Moses Lake, WA

AGENCY: Federal Aviation Administration (FAA), DOT.

ACTION: Final rule.

SUMMARY: This action modifies Class D airspace, Class E surface area airspace, Class E airspace designated as an extension, and Class E airspace extending upward from 700 and 1,200 feet above the surface at Grant County International Airport (formerly Grant County Airport), Moses Lake, WA. This action removes the Notice to Airmen (NOTAM) part-time status of Class E airspace designated as an extension, and updates the airport name and geographic coordinates for the airport in the associated Class D and E airspace areas to match the FAA's aeronautical database. These changes are necessary to accommodate airspace redesign for the safety and management of instrument flight rules (IFR) operations at the airport.

DATES: Effective 0901 UTC, February 28, 2019. The Director of the Federal Register approves this incorporation by reference action under Title 1, Code of Federal Regulations, part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA).

For information on the availability of this material at NARA, call (202) 741-6030, or go to https://www.archives.gov/federal-register/cfr/ibr-locations.html.

FAA Order 7400.11, Airspace Designations and Reporting Points, is published yearly and effective on September 15.

FOR FURTHER INFORMATION CONTACT: Bonnie Malgarini, Federal Aviation Administration, Operations Support Group, Western Service Center, 2200 S 216th Street, Des Moines, WA 98198-6547; telephone (206) 231-2329.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and Class E surface airspace at Grant County International Airport, Moses Lake, WA, to support standard instrument approach procedures under IFR operations at the airport.

History

The FAA published a notice of proposed rulemaking in the Federal Register (83 FR 2018-19650; May 4, 2018) for Docket No. FAA-2017-1033 to modify Class D airspace, Class E surface area airspace, Class E airspace designated as an extension, and Class E airspace extending upward from 700 and 1,200 feet above the surface at Grant County International Airport, Moses Lake, WA. Interested parties were invited to participate in this rulemaking effort by submitting written comments on the proposal to the FAA. No comments were received. However, an error omitting the full radius of the Class D airspace was identified in the legal description, and is corrected for the final rule.

Class E airspace designations are published in paragraph 6005 of FAA Order 7400.11C, dated August 13, 2018, and effective September 15, 2018, which is incorporated by reference in 14 CFR 71.1. The Class E airspace designation listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This amendment to Title 14, Code of Federal Regulations (14 CFR) part 71 modifies Class D airspace, Class E surface area airspace, Class E airspace designated as an extension, and Class E airspace extending upward from 700 feet above the surface, and removing Class E airspace extending upward from 1,200 feet above the surface at Grant County International Airport, Moses Lake, WA.

Class D airspace is modified to a 5.3-mile radius (from a 5.7-mile radius) of the airport, and the excluded area southeast of the airport would be re-defined as “within an area bounded by a line beginning at the point where the 147° bearing from the airport intersects the 5.3-mile radius of the airport to lat. 47°09′59″ N, long. 119°14′55″ W, to the point where the 103° bearing from the airport intersects the airport 5.3-mile radius, thence clockwise along the 5.3-mile radius of the airport to the point of beginning.”

Class E surface area airspace is modified to be coincident with the dimensions of the Class D airspace, and would be effective during the hours when the Class D is not in effect to protect IFR operations continuously.

Class E airspace designated as an extension to a Class D or Class E surface area is modified by removing the segments extending to the northeast (within 2.2 miles each side of the Moses Lake VOR/DME 050 radial extending from the 5.7-mile radius of the airport to 13.5 miles northeast of the VOR/DME, and within 3.5 miles each side of the Moses Lake VOR/DME 063° radial extending from the 5.7-mile radius of the airport to 12.9 miles northeast of the VOR/DME). Also, the segment extending north of the airport is enlarged to within 4.2 miles west and 3.9 miles east of the 339° bearing from Grant County International Airport extending from the airport 5.3-mile radius to 15.3 miles north of the airport (from within 1.8 miles each side of the Ephrata VORTAC 156° radial extending from the 5.7-mile radius of Grant County Airport to 2.7 miles southeast of the VORTAC), excluding the Ephrata Municipal Airport, WA, Class E surface area airspace. Also, a small extension south of the airport is added within 1.0 mile each side of the airport 162° bearing extending from the 5.3-mile radius of the airport to 5.9 miles south of the airport. This action also removes the NOTAM part-time status of Class E airspace designated as an extension, which would be in effect continuously.

Class E airspace extending upward from 700 feet is modified to within a 7.1-mile (from a 16.6-mile) radius of Grant County International Airport, and within 3.8 miles southwest and 9-miles northeast of a 336° bearing extending from the airport to 27.5 miles northwest of the airport, and within 4 miles north and 8 miles south of the 069° bearing from the airport extending to 22.3 miles east of the airport, and within 8 miles east and 4 miles west of the 162° bearing from the airport extending to 22 miles south of the airport, and within 4-miles northwest and 8 miles southeast of the 223° bearing from the airport extending to 21.5 miles southwest of the airport (from a 16.6-mile radius of the Ephrata VORTAC). Also, the Class E airspace extending upward from 1,200 feet above the surface at the airport is removed as it is wholly contained within the larger Spokane Class E en route airspace area, and duplication is not necessary.

Additionally, this action updates the airport name from Grant County Airport to Grant County International Airport, and the geographic coordinates for the associated Class D and Class E airspace areas to match the FAA's aeronautical database.

Finally, an editorial change is made to the Class D and Class E airspace legal descriptions replacing “Airport/Facility Directory” with the term “Chart Supplement”. An editorial change is also made removing the city associated with the airport name in the airspace designation to comply with a recent change to FAA Order 7400.2L, Procedures for Handling Airspace Matters, dated October 12, 2017.

Class D and Class E airspace designations are published in paragraph 5000, 6002, 6004, and 6005, respectively, of FAA Order 7400.11C, dated August 13, 2018, and effective September 15, 2018, which is incorporated by reference in 14 CFR 71.1. The Class D and E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 5000 Class D Airspace.

* * * * *

ANM WA D Moses Lake, WA [Amended]

Grant County International Airport, WA

(Lat. 47°12′31″ N, long. 119°19′09″ W)

That airspace extending upward from the surface to and including 3,700 feet MSL within a 5.3-mile radius of Grant County International Airport, excluding that airspace within an area bounded by a line beginning at the point where the 147° bearing from the airport intersects the 5.3-mile radius of the airport to lat. 47°09′59″ N, long. 119°14′55″ W, to the point where the 103° bearing from the airport intersects the airport 5.3-mile radius, thence clockwise along the 5.3-mile radius of the airport to the point of beginning. This Class D airspace area is effective during the specific dates and times established in advance by a Notice to Airmen. The effective date and time will thereafter be continuously published in the Chart Supplement.

Paragraph 6002 Class E Airspace Designated as Surface Areas.

* * * * *

ANM WA E2 Moses Lake, WA [Amended]

Grant County International Airport, WA

(Lat. 47°12′31″ N, long. 119°19′09″ W)

That airspace extending upward from the surface within a 5.3-mile radius of Grant County International Airport, excluding that airspace within an area bounded by a line beginning at the point where the 147° bearing from the airport intersects the 5.3-mile radius of the airport to lat. 47°09′59″ N, long. 119°14′55″ W, to the point where the 103° bearing from the airport intersects the airport 5.3 mile radius, thence clockwise along the 5.3-mile radius of the airport to the point of beginning. This Class D airspace area is effective during the specific dates and times established in advance by a Notice to Airmen. The effective date and time will thereafter be continuously published in the Chart Supplement.

* * * * *

ANM WA E4 Moses Lake, WA [Amended]

Grant County International Airport, WA

(Lat. 47°12′31″ N, long. 119°19′09″ W)

That airspace extending upward from the surface within 4.2 miles west and 3.9 miles east of the 339° bearing from Grant County International Airport extending from the airport 5.3-mile radius to 15.3 miles north of the airport, and within 1.0 mile each side of the airport 162° bearing extending from the 5.3-mile radius of the airport to 5.9 miles south of the airport, excluding that airspace within the Ephrata Municipal Airport, WA, Class E surface area.

Paragraph 6005 Class E Airspace Areas Extending Upward From 700 Feet or More Above the Surface of the Earth.

* * * * *

ANM WA E5 Moses Lake, WA [Amended]

Grant County International Airport, WA

(Lat. 47°12′31″ N, long. 119°19′09″ W)

That airspace upward from 700 feet above the surface within a 7.1-mile radius of Grant County International Airport, and within 3.8 miles southwest and 9-miles northeast of a 336° bearing extending from the airport to 27.5 miles northwest of the airport, and within 4 miles north and 8 miles south of the 069° bearing from the airport extending to 22.3 miles east of the airport, and within 8 miles east and 4 miles west of the 162° bearing from the airport extending to 22 miles south of the airport, and within 4-miles northwest and 8 miles southeast of the 223° bearing from the airport extending to 21.5 miles southwest of the airport.

Issued in Seattle, Washington, on November 30, 2018.
Shawn M. Kozica,
Manager, Operations Support Group, Western Service Center.

[FR Doc. 2018-26805 Filed 12-13-18; 8:45 am]

BILLING CODE 4910-13-P